DEPARTMENT OF LABOR

Employment and Training Administration

Policy and Procedural Change Regarding the Publication of Notices of Funding Opportunities in the Federal Register

AGENCY: Employment and Training Administration, Labor.

ACTION: Notice.

SUMMARY: This notice is to announce that the Department of Labor, Employment and Training Administration (ETA) will no longer publish the full text of Solicitation of Grant Applications (SGAs) in the Federal Register. ETA will publish a Notice of Funding Opportunity in the Federal Register, and the full texts of all ETA SGAs will be posted at the government-wide Web site, http://www.grants.gov, in accordance with the policy directive issued by the Office of Management and Budget (OMB). An applicant for funding may access the full SGA associated with a synopsis posted at http://www.grants.gov by following the universal resource locator (URL) link included in the synopsis, or by visiting ETA's Web site at http://www.doleta.gov.

DATES: Effective Date: January 6, 2011.

FOR FURTHER INFORMATION CONTACT: Daphne Jefferson, 200 Constitution Avenue, NW., Room N4653, Washington, DC 20210; telephone: 202-693-2800.

SUPPLEMENTARY INFORMATION: ETA continually searches for ways to improve its operating and economic efficiency. ETA's policies currently provide for publication of notices of SGAs in the Federal Register. In addition to publication of notices of SGAs in the Federal Register and its own Web site, ETA, like all Federal agencies, is mandated to publish SGAs on http://www.grants.gov. ETA has published the full text of SGAs in both the Federal Register and on the Web sites. The Web sites provide the public with a more efficient way to complete SGAs and expedite the process of obtaining any available funding.

On October 8, 2003, OMB issued a policy directive entitled “Requirement To Post Funding Opportunity Announcement Synopses at http://www.grants.gov and Related Data Elements/Format” [68 FR 58146, Oct. 8, 2003]. The directive requires every Federal agency that awards agreements to post synopses of its funding opportunity announcements in standard format on the Internet at http://www.grants.gov or such Web site/Internet address that may be identified by OMB. A single government-wide Web site provides prospective applicants the opportunity to locate funding opportunities in one place rather than having to search for announcements in multiple locations.

ETA has determined that we may more effectively and efficiently inform the public of our funding opportunities by modifying our policy of publishing the full text of SGAs in the Federal Register. Hereafter, we will post the full text of SGAs and any subsequent SGA amendments at http://www.grants.gov and on our own Web site, and will publish only an abbreviated notice in the Federal Register to announce the funding opportunity. The notice will direct interested parties to the appropriate Web sites for the full SGA. ETA has determined that publishing a Notice of Funding Opportunity for the SGA in the Federal Register serves as a cost-effective measure, substantially reducing government publication costs. The Federal Register will continue to serve the important mission of providing the public with notice of the funding opportunity contained in the SGA, but it will direct interested persons to obtain more detailed application information through the more efficient process provided by the Web sites referenced above. The public will still have access to the complete application package and other details regarding the SGA.

Signed at Washington, DC, this 29th day of December 2010.
Jane Oates,
Assistant Secretary, Employment and Training Administration.

[FR Doc. 2010-33349 Filed 1-5-11; 8:45 am]

BILLING CODE 4510-FM-P